DEPARTMENT OF THE INTERIOR

Bureau of Land Management

[UT-910-08-1040-PH-24-1A]

Notice of Utah's Resource Advisory Council Conference Call

AGENCY: Bureau of Land Management, Department of Interior.

ACTION: Notice of Utah's Resource Advisory Council (RAC) Conference Call.

SUMMARY: In accordance with the Federal Land Policy and Management Act (FLPMA) and The Federal Advisory Committee Act of 1972 (FACA), the U.S. Department of the Interior, Bureau of Land Management's (BLM) Utah Resource Advisory Council (RAC) will meet as indicated below.

DATES: The Utah Resource Advisory Council (RAC) will conduct a conference call on August 21, 2008, from 10 a.m.-noon.

ADDRESSES: On August 21, the RAC will conduct a business meeting via conference call. There will be a limited number of telephone call-in lines available; however, the public may participate on the call at any of Utah's Bureau of Land Management field offices or at the Utah State Office, 440 West 200 South, Salt Lake City, Utah, in the Monument Conference Room (5th floor).

FOR FURTHER INFORMATION: Contact Sherry Foot, Special Programs Coordinator, Utah State Office, Bureau of Land Management, P.O. Box 45155, Salt Lake City, Utah 84145-0155; phone (801) 539-4195.

SUPPLEMENTARY INFORMATION: The 15-member Council advises the Secretary of the Interior, through the Bureau of Land Management, on a variety of planning and management issues associated with public land management in Utah. On August 21 (10 a.m.-noon), the Resource Advisory Council will provide feedback on the draft plan amendment and NEPA documents for the Five-Mile Pass area. RAC member, Ashley Korenblat, will provide an update on the Search and Rescue support letter. A half-hour public comment period is scheduled to begin from 11:15 a.m.-11:45 a.m. Written comments may be sent to the Bureau of Land Management addressed as listed above. The Resource Advisory Council and members of the public may call the toll free conference call number at (888) 576-2912. To join the call, enter access code 395323 followed by the # sign. All meetings are open to the public; however, transportation, lodging, and meals are the responsibility of the participating public.

Dated: July 8, 2008.
Jeff Rawson,
Associate State Director.

[FR Doc. E8-16218 Filed 7-15-08; 8:45 am]

BILLING CODE 4310-DQ-P